DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c) (2)(A)). This program helps to ensure that requested data can be provided in the desired format, reporting burden (time and financial resources) is minimized, collection instruments are clearly understood, and the impact of collection requirements on respondents can be properly assessed. Currently, the Bureau of Labor Statistics (BLS) is soliciting comments concerning the proposed revision of “The Consumer Expenditure Surveys: The Quarterly Interview and the Diary.” A copy of the proposed information collection request (ICR) can be obtained by contacting the individual listed below in the ADDRESSES section of this notice.

DATES: Written comments must be submitted to the office listed in the ADDRESSES section below on or before January 4, 2005.

ADDRESSES: Send comments to Amy A. Hobby, BLS Clearance Officer, Division of Management Systems, Bureau of Labor Statistics, Room 4080, 2 Massachusetts Avenue, NE., Washington, DC 20212, telephone number 202-691-7628. (This is not a toll free number.)

FOR FURTHER INFORMATION CONTACT: Amy A. Hobby, BLS Clearance Officer, telephone number 202-691-7628. (See ADDRESSES section.)

SUPPLEMENTARY INFORMATION:

I. Background

The Consumer Expenditure (CE) Surveys collect data on consumer expenditures, demographic information, and related data needed by the Consumer Price Index (CPI) and other public and private data users. The continuing surveys provide a constant measurement of changes in consumer expenditure patterns for economic analysis and to obtain data for future CPI revisions. The CE Surveys have been ongoing since 1979.

The data from the CE Surveys are used (1) for CPI revisions, (2) to provide a continuous flow of data on income and expenditure patterns for use in economic analysis and policy formulation, and (3) to provide a flexible consumer survey vehicle that is available for use by other Federal Government agencies. Public and private users of price statistics, including Congress and the economic policymaking agencies of the Executive branch, rely on data collected in the CPI in their day-to-day activities. Hence, data users and policymakers widely accept the need to improve the process used for revising the CPI. If the CE Surveys were not conducted on a continuing basis, current information necessary for more timely, as well as more accurate, updating of the CPI would not be available. In addition, data would not be available to respond to the continuing demand from the public and private sectors for current information on consumer spending.

In the Quarterly Interview Survey, each consumer unit (CU) in the sample is interviewed every three months over five calendar quarters. The sample for each quarter is divided into three panels, with CUs being interviewed every three months in the same panel of every quarter. The Quarterly Interview Survey is designed to collect data on the types of expenditures that respondents can be expected to recall for a period of three months or longer. In general the expenses reported in the Interview Survey are either relatively large, such as property, automobiles, or major appliances, or are expenses which occur on a fairly regular basis, such as rent, utility bills, or insurance premiums.

The Diary (or recordkeeping) Survey is completed at home by the respondent family for two consecutive one-week periods. The primary objective of the Diary Survey is to obtain expenditure data on small, frequently purchased items which normally are difficult to recall over longer periods of time.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

The Consumer Expenditure Quarterly Interview Survey has recently undergone a thorough review since its conversion to a Computer Assisted Personal Interview (CAPI) collection instrument in April, 2003. The proposed changes from this review fall into two major categories: streamlining the current questions in several sections and updating several questions and sections to reflect the current marketplace.

In the streamlining category, the BLS deleted or collapsed obsolete questions. The BLS collapsed all types of cooking stoves into one category, collapsed rarely used fuel types to one code in the utility section, collapsed all types of televisions into one code, and deleted questions related to options on vehicles that are now common. The BLS also eliminated redundant questions in the two insurance sections simplifying the collection of policies.

To keep the survey current, question wording changed and some new codes were added. Examples of additions to existing questions include adding the word, “minivan,” to the vehicle screening questions; adding wording to questions and sections regarding online payments, automatic deductions, transit subsidies, and flexible spending accounts; and adding weight reduction centers to a membership question. Examples of adding additional codes include new categories for handheld personal music players, PDAs or personal digital assistants, video equipment and installation for vehicles, electronic toll passes like EZ Pass, Global Positioning System (GPS) services, and dating services. Similarly, a new section was added to capture different types of internet expenses such as membership to entertainment sites and the purchase of downloaded music or video files. These changes were made to keep the survey current with products available in the marketplace.

A full list of the proposed changes to the Quarterly Interview Survey is available upon request. The Diary Survey will have no changes for 2005.

Type of Review: Revision of a currently approved collection.

Agency: Bureau of Labor Statistics.

Title: The Consumer Expenditure Surveys: The Quarterly Interview and the Diary.

OMB Number: 1220-0050.

Form | Total respondents | Frequency | Total responses | Average time per response | Estimated total burden (hours)
CE Quarterly Interview CAPI instrument | 10,157 | 4 | 40,628 | 70 | 47,400
Quarterly Interview Reinterview CPI instrument | 3,283 | 1 | 3,283 | 15 | 821
CE Diary: Household Questionnaire CAPI instrument | 7,530 | 3 | 22,590 | 25 | 9,413
CE Diary: CE-801, Record of Your Daily Expenses | 7,530 | 2 | 15,060 | 105 | 26,355
CE Diary Reinterview CAPI instrument | 954 | 1 | 954 | 15 | 239
Totals | 17,687 |  | 82,515 |  | 84,228
Please note: Reinterview respondents are a subset of the original number of respondents for each survey. Therefore, they are not counted again in the totals. Also, for the Diary, the “Record of Your Daily Expenses” respondents are the same as the “Household Questionnaire” respondents.

Affected Public: Individuals or households.

Total Burden Cost (Capital/Startup): $0.

Total Burden Cost (Operating/Maintenance): $0.

Comments submitted in response to this notice will be summarized and/or included in the request for Office of Management and Budget approval of the information collection request; they also will become a matter of public record.

Signed in Washington, DC, this 25th day of October, 2004.
Cathy Kazanowski,
Chief, Division of Management Systems, Bureau of Labor Statistics.

[FR Doc. 04-24732 Filed 11-4-04; 8:45 am]

BILLING CODE 4510-24-P